DEPARTMENT OF HOUSING AND URBAN DEVELOPMENT

[Docket No. FR-5997-N-29]

30-Day Notice of Proposed Information Collection: Allocation of Operating Subsidies Under the Operating Fund Formula: Data Collection

AGENCY: Office of the Chief Information Officer, HUD.

ACTION: Notice.

SUMMARY: HUD has submitted the proposed information collection requirement described below to the Office of Management and Budget (OMB) for review, in accordance with the Paperwork Reduction Act. The purpose of this notice is to allow for an additional 30 days of public comment.

DATES: Comments Due Date: July 19, 2017.

ADDRESSES: Interested persons are invited to submit comments regarding this proposal. Comments should refer to the proposal by name and/or OMB Control Number and should be sent to: HUD Desk Officer, Office of Management and Budget, New Executive Office Building, Washington, DC 20503; fax: 202-395-5806. Email: OIRA_Submission@omb.eop.gov.

FOR FURTHER INFORMATION CONTACT: Colette Pollard, Reports Management Officer, QDAM, Department of Housing and Urban Development, 451 7th Street SW., Washington, DC 20410; email Colette Pollard at Colette.Pollard@hud.gov or telephone 202-402-3400. Persons with hearing or speech impairments may access this number through TTY by calling the toll-free Federal Relay Service at (800) 877-8339. This is not a toll-free number. Copies of available documents submitted to OMB may be obtained from Ms. Pollard.

SUPPLEMENTARY INFORMATION: This notice informs the public that HUD has submitted to OMB a request for approval of the information collection described in Section A. The Federal Register notice that solicited public comment on the information collection for a period of 60 days was published on December 21, 2016 at 81 FR 93698.

A. Overview of Information Collection

Title of Information Collection: Allocation of Operating Subsidies under the Operating Fund Formula: Data Collection.

OMB Approval Number: 2577-0029.

Type of Request: Revision of currently approved collections.

Form Number: HUD-52722 and HUD-52723.

Respondents: State, Local or Tribal Government, Public Housing Agencies (PHAs).

Description of the need for the information and proposed use: Public Housing Agencies (PHAs) use this information in budget submissions which are reviewed and approved by HUD field offices as the basis for obligating operating subsidies. This information is necessary to calculate the eligibility for operating subsidies under the Operating Funding Program regulations, as amended. The Operating Fund is designed to provide the amount of operating subsidy needed for well-managed PHAs. PHAs submit the information electronically with these forms.

Three changes occurred with the form HUD-52723. First, respondents requested to provide the total number of units for all projects under the Annual Contributions Contract (ACC). Second, aligned the requirements for Limited Vacancy (Section 2, Line 14) to 24 CFR 990.150. Finally, respondents may enter the Resident Paid Utilities benefits for Energy Performance Contracts in a separate line (Section 3, Part B, Line 02). There is one change to the HUD-52722, HUD eliminated the Frozen Rolling Base checkbox in Section 1 and instead the respondents indicate a Rolling Base Consumption Level Category for each utility.

Total Estimated Burdens:

Information collection | Number of respondents | Frequency of response | Responses per annum | Burden hour per response | Annual burden hours | Hourly cost per response | Annual cost
HUD-52722 | 7,000 | 1 | 0.75 | 5,250 | 5,250 | $30.98 | 162,645
HUD-52723 | 7,000 | 1 | 0.75 | 5,250 | 5,250 | 30.98 | 162,645
Total |  |  |  | 10,500 |  |  | 325,290

B. Solicitation of Public Comment

This notice solicits comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond, including the use of appropriate automated collection techniques or other forms of information technology, e.g., permitting electronic submission of responses.

HUD encourages interested parties to submit comment in response to these questions.

Authority: Section 3507 of the Paperwork Reduction Act of 1995, 44 U.S.C. Chapter 35 as amended.

Dated: June 13, 2017.
Colette Pollard,
Department Reports Management Officer, Office of the Chief Information Officer.

[FR Doc. 2017-12720 Filed 6-16-17; 8:45 am]

BILLING CODE 4210-67-P